OVERSEAS PRIVATE INVESTMENT CORPORATION

5 CFR Chapter XXXIII

22 CFR Chapter VII

BUILD Act of 2018; Transfer of Regulations

AGENCY: Overseas Private Investment Corporation, US International Development Finance Corporation.

ACTION: Final rule.

SUMMARY: The Better Utilization of Investments Leading to Development (BUILD) Act of 2018 will create the U.S. International Development Finance Corporation (DFC) by bringing together the Overseas Private Investment Corporation (OPIC) and the Development Credit Authority (DCA) office of the U.S. Agency for International Development (USAID). The reorganization requires a transfer of administrative regulations from OPIC to the new agency.

DATES: Effective October 1, 2019.

FOR FURTHER INFORMATION CONTACT: Nichole Skoyles, Administrative Counsel, 202-408-6297, fedreg@opic.gov.

SUPPLEMENTARY INFORMATION: The BUILD Act of 2018 will winddown OPIC and combine the capabilities of OPIC and DCA while providing the US with more flexibility and tools to support investments in developing countries. DFC will be a new, modern agency and requires administrative structure to support its mission. DFC will replace OPIC as the authority for 5 CFR Chapter XXXIII and 22 CFR Chapter VII and assume its administrative regulations which cover ethics restrictions, the FOIA, the Privacy Act, the Sunshine Act, the FCPA, nondiscrimination provisions, lobbying restrictions, and Touhy regulations in all parts under those chapters. Neither OPIC nor DFC currently plan on having non-administrative regulations. Other than a change in agency name, contact information, and agency authorizing statute, no changes are proposed to the existing regulations.

List of Subjects

5 CFR Part 4301

Conflict of interests, Employment.

22 CFR Part 705

Conflict of interests.

22 CFR Part 706

Administrative practice and procedure, Freedom of information, Privacy.

22 CFR Part 707

Privacy.

22 CFR Part 708

Sunshine Act.

22 CFR Part 709

U.S. investments abroad.

22 CFR Part 710

Administrative practice and procedure, Conflict of interest.

22 CFR Part 711

Administrative practice and procedure, Equal employment opportunity, Federal buildings and facilities, Individuals with disabilities.

22 CFR Part 712

Government contracts, Grant programs, Loan programs, Lobbying, Penalties, Reporting and recordkeeping requirements.

22 CFR Part 713

Administrative practice and procedure, Labor management relations, State Department

For the reasons stated in the preamble the Overseas Private Investment Corporation amends 5 CFR chapter XXXIII and 22 CFR chapter VII as follows:

Title 5

CHAPTER XXXIII—US INTERNATIONAL DEVELOPMENT FINANCE CORPORATION

1. Revise the heading for chapter XXXIII to read as set forth above.

PART 4301—SUPPLEMENTAL STANDARDS OF ETHICAL CONDUCT FOR EMPLOYEES OF THE US INTERNATIONAL DEVELOPMENT FINANCE CORPORATION

2. The authority citation for part 4301 continues to read as follows:

Authority: 5 U.S.C. 7301; 5 U.S.C. App. (Ethics in Government Act of 1978); E.O. 12674, 54 FR 15159, 3 CFR, 1989 Comp., p. 215, as modified by E.O. 12731, 55 FR 42547, 3 CFR, 1990 Comp., p. 306; 5 CFR 2635.105, 2635.803.

3. Revise the heading for part 4301 to read as set forth above.

§ 4301.101 [Amended]

4. In § 4301.101, remove the words “Overseas Private Investment Corporation (OPIC)” and add in their place the words “US International Development Finance Corporation (DFC)” in the first sentence.

Title 22

CHAPTER VII—US INTERNATIONAL DEVELOPMENT FINANCE CORPORATION

5. Revise the heading for chapter VII to read as set forth above.

PART 705—EMPLOYEE ETHICAL CONDUCT STANDARDS AND FINANCIAL DISCLOSURE REGULATIONS

6. Revise the authority citation for part 705 to read as follows:

Authority: 5 U.S.C. 7301; Pub. L. 115-254, sections 1401-1470.

§ 705.101 [Amended]

7. In § 705.101:

a. Remove the words “Overseas Private Investment Corporation (OPIC)” and add in their place the words “US International Development Finance Corporation (DFC)”; and

b. Remove “OPIC” and add in its place “DFC”.

PART 706—INFORMATION DISCLOSURE UNDER THE FREEDOM OF INFORMATION ACT

8. Revise the authority citation for part 706 to read as follows:

Authority: 5 U.S.C. 552, Pub. L. 114-185; Pub. L. 115-254, sections 1401-1470.

9. In part 706:

a. Revise the words “Overseas Private Investment Corporation” and add in their place the words “US International Development Finance Corporation” wherever they occur; and

b. Remove “OPIC” and add in its place “DFC” wherever it occurs.

§ 706.10 [Amended]

10. In § 706.10, remove the web address “www.opic.gov/foia” and add in its place “www.dfc.gov”.

§ 706.11 [Amended]

11. In § 706.11, in paragraph (a)(1), remove the web address “FOIA@opic.gov” and add in its place “foia@dfc.gov”.

§ 706.34 [Amended]

12. In § 706.34, in paragraph (a), remove the web address “FOIA@opic.gov” and add in its place “foia@dfc.gov”.

PART 707—ACCESS TO AND SAFEGUARDING OF PERSONAL INFORMATION

13. Revise the authority citation for part 707 to read as follows:

Authority: 5 U.S.C. 552a; Pub. L. 115-254, sections 1401-1470.

14. Revise the heading for part 707 to read as set forth above.

15. In part 707:

a. Remove the words “Overseas Private Investment Corporation” and add in their place the words “US International Development Finance Corporation” wherever they occur; and

b. Remove “OPIC” and add in its place “DFC” wherever it occurs.

§ 707.21 [Amended]

16. In § 707.21, in paragraph (a), remove the web address “Privacy@opic.gov” and add in its place “privacy@dfc.gov”.

PART 708—SUNSHINE REGULATIONS

17. Revise the authority citation for part 708 to read as follows:

Authority: 5 U.S.C. 552b; Pub. L. 115-254, sections 1401-1470.

PART 709—[REMOVED AND RESERVED]

18. Under the authority 22 U.S.C. 2191, remove and reserve part 709, consisting of §§ 709.1 through 709.8.

PART 710—ADMINISTRATIVE ENFORCEMENT PROCEDURES OF POST-EMPLOYMENT RESTRICTIONS

19. Revise the authority citation for part 710 to read as follows:

Authority: 18 U.S.C. 207; Pub. L. 115-254, sections 1401-1470.

20. In part 710:

a. Remove the words “Overseas Private Investment Corporation” and add in their place the words “US International Development Finance Corporation” wherever they occur; and

b. Remove “OPIC” and add in its place “DFC” wherever it occurs.

PART 711—ENFORCEMENT OF NONDISCRIMINATION ON THE BASIS OF HANDICAP IN PROGRAMS OR ACTIVITIES

21. Revise the authority citation for part 711 to read as follows:

Authority: 29 U.S.C. 794; Pub. L. 115-254, sections 1401-1470.

22. Revise the heading for part 711 to read as set forth above.

§ 711.170 [Amended]

23. In § 711.170, in paragraph (c), remove the address “1615 M Street NW, Washington, DC 20527, Attention: Director of Personnel” and add in its place “1100 New York Avenue NW, Washington, DC 20527, Attention: Director of Human Resources Management”.

PART 712—NEW RESTRICTIONS ON LOBBYING

24. Revise the authority citation for part 712 to read as follows:

Authority: 31 U.S.C. 1352; Pub. L. 115-254, section 1401-1470.

PART 713—PRODUCTION OF NONPUBLIC RECORDS AND TESTIMONY OF EMPLOYEES IN LEGAL PROCEEDINGS

25. Revise the authority citation for part 713 to read as follows:

Authority: 5 U.S.C. 301; 5 U.S.C. 552; 5 U.S.C. 552a; 5 U.S.C. 702; 18 U.S.C. 207; 18 U.S.C. 641; 22 U.S.C. 2199(d); 28 U.S.C. 1821; Pub. L. 115-254, sections 1401-1470.

26. Revise the heading for part 713 to read as set forth above.

27. In part 713:

a. Remove the words “Overseas Private Investment Corporation” and add in their place the words “US International Development Finance Corporation” wherever they occur; and

b. Remove “OPIC” and add in its place “DFC” wherever it occurs.

Dev Jagadesan,
Deputy General Counsel, Department of Legal Affairs, Overseas Private Investment Corporation.

[FR Doc. 2019-16250 Filed 8-1-19; 8:45 am]

BILLING CODE 3210-01-P